FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 22, 2015.

A. Federal Reserve Bank of New York (Ivan Hurwitz, Vice President) 33 Liberty Street New York, New York 10045-0001:

1. Frederick Hing Kwok Chau; Christopher Yeou-Hwa Chau; Karen Yeou-Hung Pellett; and FD Chau Family LLC, all of Brea, California; to collectively acquire additional voting shares of First American International Corp., and thereby indirectly acquire additional voting shares of First American International Bank, both in Brooklyn, New York.

B. Federal Reserve Bank of Atlanta (Chapelle Davis, Assistant Vice President) 1000 Peachtree Street NE., Atlanta, Georgia 30309:

1. Michael William Mathis, Rome, Georgia; to acquire voting shares of RCB Financial Corporation and thereby indirectly acquire voting shares of River City Bank, both in Rome, Georgia.

C. Federal Reserve Bank of Kansas City (Dennis Denney, Assistant Vice President) 1 Memorial Drive, Kansas City, Missouri 64198-0001:

1. Catherine Ann Bosch, Manhattan, Kansas; to acquire voting shares of Alta Vista Bancshares, Inc., and thereby indirectly acquire voting shares of Alta Vista Bank, both in Alta Vista, Kansas.

Board of Governors of the Federal Reserve System, September 2, 2015.
Michael J. Lewandowski,
Associate Secretary of the Board.

[FR Doc. 2015-22519 Filed 9-4-15; 8:45 am]

BILLING CODE 6210-01-P